DEPARTMENT OF ENERGY

Federal Energy Regulatory Commission

[EG09-76-000; EG09-80-000; EG09-81-000; EG09-82-000; EG09-83-000; EG09-84-000; EG09-85-000; EG09-86-000; EG09-87-000; EG09-88-000; EG09-89-000]

Sollunar Energy, Inc.; Fowler Ridge II Wind Farm LLC; St. Clair Power, L.P.; North Hurlburt Wind, LLC; South Hurlburt Wind, LLC; Horseshoe Bend Wind, LLC; Ashtabula Wind II, LLC; Elk City Wind, LLC; FPL Energy Stateline II, Inc.; FPL Energy Illinois Wind, LLC; Silver Sage Windpower, LLC; Notice of Effectiveness of Exempt Wholesale Generator Status

November 16, 2009.

Take notice that during the month of October 2009, the status of the above-captioned entities as Exempt Wholesale Generators became effective by operation of the Commission's regulations at 18 CFR 366.7(a).

Kimberly D. Bose,
Secretary.

[FR Doc. E9-28013 Filed 11-20-09; 8:45 am]

BILLING CODE 6717-01-P